DEPARTMENT OF JUSTICE

[OMB Number 1121-0220]

Agency Information Collection Activities; Proposed eCollection eComments Requested; Bureau of Justice Assistance Application Form: Public Safety Officers Educational Assistance

AGENCY: Bureau of Justice Assistance, Department of Justice.

ACTION: 30-day notice.

SUMMARY: The Department of Justice (DOJ), Office of Justice Programs (OJP) has submitted the following information collection request to the Office of Management and Budget (OMB) for review and approval in accordance with the Paperwork Reduction Act of 1995. This proposed information collection was previously published in the Federal Register 81 FR 84617 on November 23, 2016 allowing for a 60-day comment period.

DATES: Comments are encouraged and will be accepted for an additional 30 days until March 6, 2017.

FOR FURTHER INFORMATION CONTACT: If you have additional comments especially on the estimated public burden or associated response time, suggestions, or need a copy of the proposed information collection instrument with instructions or additional information, please contact Michelle Martin, Senior Management Analyst, Bureau of Justice Assistance, 810 Seventh Street NW., Washington, DC 20531 (phone: 202 514-9354). Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of this information collection:

1 Type of Information Collection: Extension of a currently approved collection.

2 The Title of the Form/Collection: Public Safety Officers Educational Assistance.

3 The agency form number: None.

4 Affected public who will be asked or required to respond, as well as a brief abstract:

Primary: Business or other for-profit.

Others: None.

Abstract: BJA's Public Safety Officers' Benefits (PSOB) Office will use the PSOEA Application information to confirm the eligibility of applicants to receive PSOEA benefits. Eligibility is dependent on several factors, including the applicant having received or being eligible to receive a portion of the PSOB Death Benefit, or having a spouse or parent who received the PSOB Disability Benefit. Also considered are the applicant's age and the schools being attended. In addition, information to help BJA identify an individual is collected, such as contact numbers and email addresses.

5 An estimate of the total number of respondents and the amount of time estimated for an average respondent to respond: It is estimated that no more than 200 new respondents will apply a year. Each application takes approximately 30 minutes to complete.

6 An estimate of the total public burden (in hours) associated with the collection: The estimated public burden associated with this collection is 100 hours. It is estimated that new respondents will take 30 minutes to complete an application. The burden hours for collecting respondent data sum to 100 hours (200 respondents × 0.5 hours = 100 hours).

If additional information is required contact: Melody Braswell, Deputy Clearance Officer, United States Department of Justice, Justice Management Division, Policy and Planning Staff, Two Constitution Square, 145 N Street NE., 3E, 405B, Washington, DC 20530.

Dated: January 31, 2017.
Melody Braswell,
Department Clearance Officer, PRA, U.S. Department of Justice.

[FR Doc. 2017-02324 Filed 2-2-17; 8:45 am]

BILLING CODE 4410-18-P